DEPARTMENT OF COMMERCE

Office of the Secretary

Proposed Information Collection; Comment Request; Faith-Based and Community Initiatives Toolkit Website Survey

AGENCY: Office of the Secretary, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before March 24, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to Jennifer Sullivan, phone: 202-482-6808, jsullivan1@doc.gov, fax: 202-482-4636.

SUPPLEMENTARY INFORMATION:

I. Abstract

The U.S. Department of Commerce is conducting a study to evaluate the effectiveness of the Faith-Based and Community Initiatives toolkit Web site (http://www.commerce.gov/OS/CFBCI) and, specifically the “Additional Resources” link. The toolkit assists users with finding U.S. Census Bureau data for grant writing and community needs assessment. The U.S. Census Bureau is the leading source of quality data about our nation's people and economy. The findings from the study will be used to assist in making informed decisions about users' expectations and needed improvements to the site.

II. Method of Collection

Electronically—the survey will be available after viewing: http://www.commerce.gov/OS/CFBCI, clicking the “Additional Resources” link, and using the toolkit.

III. Data

OMB Control Number: None.

Form Number(s): None.

Type of Review: Regular submission.

Affected Public: Individuals or households; not-for-profit institutions.

Estimated Number of Respondents: 400.

Estimated Time per Response: 5 minutes.

Estimated Total Annual Burden Hours: 33.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 15, 2008.
Gwellnar Banks,
Management Analyst, Office of the Chief Information Officer.

[FR Doc. E8-919 Filed 1-18-08; 8:45 am]

BILLING CODE 3510-EC-P